DEPARTMENT OF TRANSPORTATION

Federal Aviation Administration

14 CFR Part 39

[Docket No. FAA-2012-1315; Directorate Identifier 2012-NM-191-AD; Amendment 39-17310; AD 2012-26-15]

RIN 2120-AA64

Airworthiness Directives; Honeywell International Inc. Air Data Pressure Transducers

AGENCY: Federal Aviation Administration (FAA), DOT.

ACTION: Final rule; request for comments.

SUMMARY: We are adopting a new airworthiness directive (AD) for certain Honeywell International Inc. air data pressure transducers as installed on various aircraft. This AD requires various tests or checks of equipment having certain air data pressure transducers, and removal of equipment if necessary. As an option to the tests or checks, this AD allows removal of affected equipment having certain air data pressure transducers. This AD was prompted by a report of a pressure measurement error in the pressure transducer used in various air data systems, which translates into air data parameter errors. We are issuing this AD to detect and correct inaccuracies of the pressure sensors, which could result in altitude, computed airspeed, true airspeed, and Mach computation errors. These errors could reduce the ability of the flightcrew to maintain the safe flight of the aircraft and could result in consequent loss of control of the aircraft.

DATES: This AD is effective January 24, 2013.

The Director of the Federal Register approved the incorporation by reference of certain publications listed in the AD as of January 24, 2013.

We must receive comments on this AD by February 25, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For Honeywell service information identified in this AD, contact Honeywell Aerospace, Technical Publications and Distribution, M/S 2101-201, P.O. Box 52170, Phoenix, AZ 85072-2170; telephone 602-365-5535; fax 602-365-5577; Internet http://www.honeywell.com. For Airbus service information identified in this AD for Model A330 series airplanes, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Airbus service information identified in this AD for Model A318, A319, A320, and A321 series airplanes, contact Airbus, Airworthiness Office—EAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Blake Higuchi, Aerospace Engineer, Systems and Equipment Branch, ANM-130L, FAA, Los Angeles Aircraft Certification Office, 3960 Paramount Boulevard, Lakewood, CA 90712-4137; phone: 562-627-5315; fax: 562-627-5210; email: blake.higuchi@faa.gov.

SUPPLEMENTARY INFORMATION:

Discussion

We received a report of a pressure measurement error in the air data pressure sensor used in various air data systems, which translates into air data parameter errors, possibly related to sleeks (micro-scratches on the polished glass tube pressure port) and the anodic bond of the glass tube to the sensor die. Errors in the pressure sensor measurements could impact other aircraft systems using the pressure measurements. The primary concern is the impact on the air data system and the associated airspeed (Mach, computed airspeed, and true airspeed) and computations. This error in the static pressure measurement will result in a higher indicated altitude than the actual altitude and a higher indicated airspeed than actual airspeed. This error in the pitot pressure sensor will result in a lower indicated airspeed than actual airspeed. The error in the pressure sensor measurement is a result of a leak within the pressure sensor's vacuum reference that is compared with the actual applied pressure. This condition, if not corrected, could reduce the ability of the flightcrew to maintain the safe flight of the aircraft and could result in consequent loss of control of the aircraft.

Relevant Service Information

We reviewed Honeywell Alert Service Bulletin ADM/ADC/ADAHRS-34-A01, dated November 6, 2012. This service bulletin describes procedures for an indicated altitude test of equipment (i.e., air data modules (ADM), air data computers, air data attitude heading reference systems, and digital air data computers) having certain air data pressure transducers, repetitive pressure sensor tests if necessary, and removal of equipment if necessary. This service bulletin also specifies optional actions, including repetitive pitot-static certification testing and removal of equipment having certain air data pressure transducers.

We have also reviewed Airbus Alert Operators Transmission (AOT) A34N001-12, including Appendices A and B, dated November 15, 2012, for Airbus Model A318/A319/A320/A321 series airplanes; and Airbus AOT A34N001-12, including Appendices A and B, dated November 15, 2012, for Airbus Model A330 series airplanes. These AOTs describe procedures for doing a repetitive ADM check or a functional test of the ADM accuracy, and replacing the ADM if necessary.

FAA's Determination

We are issuing this AD because we evaluated all the relevant information and determined the unsafe condition described previously is likely to exist or develop in other products of these same type designs.

AD Requirements

This AD requires accomplishing the actions specified in the service information described previously, except as discussed under “Differences Between the AD and the Service Information.” The AD also requires sending the test or check results (both pass and fail) to the FAA and Honeywell.

Differences Between the AD and the Service Information

The service information that follows specifies certain corrective actions for various conditions. However we differ from these actions and conditions in that this AD requires removing affected equipment and returning the equipment to Honeywell if those conditions are found.

• Airbus Alert Operators Transmission (AOT) A34N001-12, including Appendices A and B, dated November 15, 2012, for Airbus Model A318/A319/A320/A321 series airplanes; and Airbus AOT A34N001-12, including Appendices A and B, dated November 15, 2012, for Airbus Model A330 series airplanes; specifies to replace the ADM if the ADM check fails.

• Honeywell Service Bulletin ACM/ADC/ADAHRS-34-A01, dated November 6, 2012, specifies to refer to “applicable procedures” if the indicated altitude test exceeds 75 feet (23 meters).

• Honeywell Service Bulletin ACM/ADC/ADAHRS-34-A01, dated November 6, 2012, specifies to remove the affected equipment if the pressure test is greater than 0.70 millibar (mB).

In addition, the service information that follows is missing corrective actions for certain conditions; however, this AD requires removing affected equipment and returning the equipment to Honeywell for those conditions that are missing corrective actions.

• Airbus Alert Operators Transmission (AOT) A34N001-12, including Appendices A and B, dated November 15, 2012, for Airbus Model A318/A319/A320/A321 series airplanes; and Airbus AOT A34N001-12, including Appendices A and B, dated November 15, 2012, for Airbus Model A330 series airplanes; does not specify any corrective action if the functional test of the ADM accuracy fails.

• Honeywell Service Bulletin ACM/ADC/ADAHRS-34-A01, dated November 6, 2012, does not specify any corrective action if the pitot static certification test fails.

Interim Action

We consider this AD interim action. The manufacturer is currently developing a modification that will address the unsafe condition identified in this AD. Once this modification is developed, approved, and available, we might consider additional rulemaking.

FAA's Justification and Determination of the Effective Date

An unsafe condition exists that requires the immediate adoption of this AD. The FAA has found that the risk to the flying public justifies waiving notice and comment prior to adoption of this rule because inaccuracies of the pressure sensors could result in altitude, computed airspeed, true airspeed, and Mach computation errors. These errors could reduce the ability of the flightcrew to maintain the safe flight of the aircraft and could result in consequent loss of control of the aircraft. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2012-1315 and Directorate Identifier 2012-NM-191-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 90 appliances installed on, but not limited to, various aircraft of U.S. registry.

We estimate the following costs to comply with this AD:

Estimated Costs
Action | Labor cost | Parts cost | Cost per product | Cost on U.S. operators
Indicated altitude test | 2 work-hours × $85 per hour = $170 | $0 | $170 | Up to $15,300.
Removal | 2 work-hours × $85 per hour = $170 | 0 | 170 | Up to $15,300.
Pitot static certification test | 3 work-hours × $85 per hour = $255 | 0 | 255 | Up to $22,950.
ADM check or test | 2 work-hours × $85 per hour = $170 | 0 | 170 | Up to $15,300.

We estimate the following costs to do any necessary pressure sensor tests or removals that would be required based on the results of the tests or checks. We have no way of determining the number of aircraft that might need these pressure sensor tests or removals:

On-Condition Costs
Action | Labor cost | Parts cost | Cost per product
Pressure sensor test | 2 work-hours × $85 per hour = $170 | $0 | $170
Removal | 2 work-hours × $85 per hour = $170 | 0 | 170

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-26-15 Honeywell International Inc.: Amendment 39-17310; Docket No. FAA-2012-1315; Directorate Identifier 2012-NM-191-AD.

(a) Effective Date

This AD is effective January 24, 2013.

(b) Affected ADs

None.

(c) Applicability

This AD applies to air data pressure transducers, as installed in air data computers (ADC), air data modules (ADM), air data attitude heading reference systems (ADAHRS), and digital air data computers (DADC) having the part numbers and serial numbers identified in Honeywell Alert Service Bulletin ADM/ADC/ADAHRS-34-A01, dated November 6, 2012. This appliance is installed on, but not limited to, the aircraft specified in paragraphs (c)(1) through (c)(11) of this AD.

(1) Airbus Model A318-111, -112, -121, and -122 airplanes; Model A319-111, -112, -113, -114, -115, -131, -132, and -133 airplanes; Model A320-111, -211, -212, -214, -231, -232, and -233 airplanes; Model A321-111, -112, -131, -211, -212, -213, -231, and -232 airplanes; Model A330-223F, -243F, -201, -202, -203, -223, -243, -301, -302, -303, -321, -322, -323, -341, -342, and -343 airplanes; and Model A340-211, -212, -213, -311, -312, -313, -541, and -642 airplanes.

(2) AGUSTA S.p.A. Model AW139 helicopters.

(3) Bell Helicopter Textron Canada Limited Model 429 helicopters.

(4) The Boeing Company Model 767-200, -300, -300F, and -400ER series airplanes; and Model 777-200, -200LR, -300, -300ER, and 777F series airplanes.

(5) Cessna Aircraft Company Model 560XL (560 Excel and 560 XLS) airplanes.

(6) Dassault Aviation Model Mystere-Falcon 900 airplanes and Model FALCON 2000 airplanes.

(7) Empresa Brasileira de Aeronautica S.A. (Embraer) Model EMB-135BJ airplanes.

(8) Gulfstream Aerospace Corporation Model GIV-X and GV-SP airplanes.

(9) Learjet Inc. Model 45 airplanes.

(10) Pilatus Aircraft LTD. Model PC-12/47E airplanes.

(11) Viking Air Limited (Type Certificate previously held by Bombardier Inc.; de Havilland, Inc.) Model (Twin Otter) DHC-6-400 airplanes.

(d) Subject

Joint Aircraft System Component (JASC)/Air Transport Association (ATA) of America Code 34, Navigation.

(e) Unsafe Condition

This AD was prompted by a report of a pressure measurement error in the pressure transducer used in various air data systems, which translates into air data parameter errors. We are issuing this AD to detect and correct inaccuracies of the pressure sensors, which could result in altitude, computed airspeed, true airspeed, and Mach computation errors. These errors could reduce the ability of the flightcrew to maintain the safe flight of the aircraft and could result in consequent loss of control of the aircraft.

(f) Compliance

Comply with this AD within the compliance times specified, unless already done.

(g) Actions

Within 30 days after the effective date of this AD: Do the actions in either paragraph (g)(1) or (g)(2) of this AD, except as provided by paragraphs (h) and (i) of this AD.

(1) Remove the affected equipment (i.e., ADC, ADM, ADAHRS, and DADC), as identified in paragraph (c) of this AD, and return the equipment to Honeywell at the applicable address specified in table 1 to paragraphs (g)(1), (g)(2), (h)(1), (h)(2)(i), (i)(1)(i), and (i)(2) of this AD. Before continued operations, the operator must ensure that all of the required equipment is properly installed in the aircraft.

Table 1 to Paragraphs (g)(1), (g)(2), (h)(1), (h)(2)(i), (i)(1)(i), and (i)(2) of This AD—Addresses for Returned Parts
For part numbers identified in— | Return parts to—
Tables 12 and 13 of Honeywell Service Bulletin ADM/ADC/ADAHRS-34-A01, dated November 6, 2012 | Honeywell Aerospace, 23500 West 105th Street, Olathe, KS 66061.
Tables 2, 3, 4, 5, 6, 7, 8, 9, 10, 11, and 14 of Honeywell Service Bulletin ADM/ADC/ADAHRS-34-A01, dated November 6, 2012 | Honeywell Aerospace, 1850 West Rose Garden Lane, Phoenix, AZ 85027.

(2) Do a pitot-static certification test, and repeat the test thereafter at intervals not to exceed 30 days, in accordance with paragraph 1.C.(4)(a)3 of Honeywell Alert Service Bulletin ADM/ADC/ADAHRS-34-A01, dated November 6, 2012. If any pitot-static certification test fails, remove the affected equipment (i.e., ADC, ADM, ADAHRS, or DADC) and return the equipment to Honeywell at the applicable address specified in table 1 to paragraphs (g)(1), (g)(2), (h)(1), (h)(2)(i), (i)(1)(i), and (i)(2) of this AD. Before continued operations, the operator must ensure that all of the required equipment is properly installed in the aircraft.

(h) Optional Actions for Certain The Boeing Company Airplanes, Gulfstream Aerospace Corporation Airplanes, and PILATUS AIRCRAFT LTD., Airplanes

For The Boeing Company Model 777-200, -200LR, -300, -300ER, and 777F series airplanes; Gulfstream Aerospace Corporation Model GIV-X and GV-SP airplanes; and PILATUS AIRCRAFT LTD., Model PC-12/47E airplanes: In lieu of doing the actions required by paragraph (g) of this AD, within 30 days after the effective date of this AD, do an indicated altitude test, in accordance with the Accomplishment Instructions of Honeywell Alert Service Bulletin ADM/ADC/ADAHRS-34-A01, dated November 6, 2012.

(1) If the indicated altitude exceeds 75 feet (23 meters) from the current aircraft elevation, before further flight, remove the affected equipment (i.e., ADC, ADM, ADAHRS, or DADC) and return the equipment to Honeywell at the applicable address specified in table 1 to paragraphs (g)(1), (g)(2), (h)(1), (h)(2)(i), (i)(1)(i), and (i)(2) of this AD. Before continued operations, the operator must ensure that all of the required equipment is properly installed in the aircraft.

(2) If the indicated altitude is equal to or less than 75 feet (23 meters) of the aircraft elevation, before further flight, do a pressure sensor test, in accordance with the Accomplishment Instructions of Honeywell Alert Service Bulletin ADM/ADC/ADAHRS-34-A01, dated November 6, 2012.

(i) If the pressure error is greater than 0.70 millibar (mB), before further flight, remove the affected equipment (i.e., ADC, ADM, ADAHRS, or DADC) and return the equipment to Honeywell at the applicable address specified in table 1 to paragraphs (g)(1), (g)(2), (h)(1), (h)(2)(i), (i)(1)(i), and (i)(2) of this AD. Before continued operations, the operator must ensure that all of the required equipment is properly installed in the aircraft.

(ii) If the pressure error is greater than 0.50 mB, but less than or equal to 0.70 mB, repeat the test within 30 days after the most recent test.

(iii) If the pressure error is greater than or equal to 0.25 mB, but less than or equal to 0.50 mB, repeat the test within 120 days after the most recent test.

(i) Optional Actions for Certain Airbus Airplanes

For Airbus Model A318, A319, A320, and A321 airplanes having a manufacturer serial number (MSN) and an ADM identified in Appendix A of Airbus Alert Operators Transmission (AOT) A34N001-12, including Appendices A and B, dated November 15, 2012, for Airbus Model A318/A319/A320/A321 series airplanes; and for Airbus Model A330 series airplanes having an MSN and ADM identified in Appendix A of Airbus AOT A34N001-12, including Appendices A and B, dated November 15, 2012, for Airbus Model A330 series airplanes: In lieu of doing the actions required by paragraph (g) of this AD, within 30 days after the effective date of this AD, do the actions specified in paragraph (i)(1) or (i)(2) of this AD.

(1) Do an ADM check to determine the raw pressure data values from integrated standby instrument system (ISIS) and the affected ADMs, in accordance with Appendix B, “Air Data Module Check Procedure and Reporting Table,” of Airbus AOT A34N001-12, including Appendices A and B, dated November 15, 2012, for Airbus Model A318/A319/A320/A321 series airplanes; or Airbus AOT A34N001-12, including Appendices A and B, dated November 15, 2012, for Airbus Model A330 series airplanes. These checks must be performed by authorized maintenance personnel.

(i) If “P_ISIS—P_ADM” is greater than 22, before further flight, remove the affected ADM and return the ADM to Honeywell at the applicable address specified in table 1 to paragraphs (g)(1), (g)(2), (h)(1), (h)(2)(i), (i)(1)(i), and (i)(2) of this AD. Before continued operations, the operator must ensure that all of the required equipment is properly installed in the aircraft.

(ii) If “P_ISIS—P_ADM” is greater than or equal to 16, but equal to or less than 22, within 30 days after the most recent check, do the ADM check specified in paragraph (i)(1) of this AD.

(iii) If “P_ISIS—P_ADM” is less than 16, within 120 days after the most recent check, do the ADM check specified in paragraph (i)(1) of this AD.

(2) Perform a functional test of the ADM accuracy, in accordance with Airbus AOT A34N001-12, including Appendices A and B, dated November 15, 2012, for Airbus Model A318/A319/A320/A321 series airplanes; or Airbus AOT A34N001-12, including Appendices A and B, dated November 15, 2012, for Airbus Model A330 series airplanes. Repeat the test thereafter at intervals not to exceed 30 days. If any test fails, before further flight, remove the affected ADM and return the ADM to Honeywell at the applicable address specified in table 1 to paragraphs (g)(1), (g)(2), (h)(1), (h)(2)(i), (i)(1)(i), and (i)(2) of this AD. Before continued operations, the operator must ensure that all of the required equipment is properly installed in the aircraft.

(j) Reporting

(1) For any airplane on which any test specified in paragraph (h) of this AD has been done: At the applicable time specified in paragraph (j)(1)(i) or (j)(1)(ii) of this AD, submit a report of the findings (both pass and fail) of the test specified in paragraph (h) of this AD to Honeywell by email AeroTechSupport@honeywell.com or fax 602-365-1871. The report must include the information specified in Appendix A of Honeywell Alert Service Bulletin ADM/ADC/ADAHRS-34-A01, dated November 6, 2012.

(i) If the test was done on or after the effective date of this AD: Submit the report within 15 days after the test.

(ii) If the test was done before the effective date of this AD: Submit the report within 15 days after the effective date of this AD.

(2) For any airplane on which any test specified in paragraph (h) of this AD, or any check specified in paragraph (i)(1) of this AD, has been done: At the applicable time specified in paragraph (j)(2)(i) or (j)(2)(ii) of this AD, submit a report of the findings (both pass and fail) of the test specified in paragraph (h) of this AD; or the check specified in paragraph (i)(1) of this AD; as applicable; to the Manager, Los Angeles Aircraft Certification Office (ACO), FAA, 3960 Paramount Boulevard, Lakewood, CA 90712-4137.

(i) If the test or check was done on or after the effective date of this AD: Submit the report within 15 days after the test or check.

(ii) If the test or check was done before the effective date of this AD: Submit the report within 15 days after the effective date of this AD.

(3) For Airbus Model A318, A319, A320, A321, A330-200 Freighter, A330-200, and A330-300 series airplanes: At the applicable time specified in paragraph (j)(3)(i) or (j)(3)(ii) of this AD, submit a report of the findings (both pass and fail) of the check required by paragraph (i)(1) of this AD to Honeywell by email AeroTechSupport@honeywell.com or fax 602-365-1871. The report must include the information specified in the reporting sheet in Appendix B, “Air Data Module Check Procedure and Reporting Table,” of Airbus AOT A34N001-12, including Appendices A and B, dated November 15, 2012, for Airbus Model A318/A319/A320/A321 series airplanes; or Airbus AOT A34N001-12, including Appendices A and B, dated November 15, 2012, for Airbus Model A330 series airplanes.

(i) If the check was done on or after the effective date of this AD: Submit the report within 15 days after the check.

(ii) If the check was done before the effective date of this AD: Submit the report within 15 days after the effective date of this AD.

(k) Parts Installation Limitation

As of the effective date of this AD, no person may install air data pressure transducers in air data computers, air data modules, air data attitude heading reference systems, and digital air data computers, having the part numbers and serial numbers identified in Honeywell Alert Service Bulletin ADM/ADC/ADAHRS-34-A01, dated November 6, 2012, on any aircraft.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Alternative Methods of Compliance (AMOCs)

(1) The Manager, Los Angeles ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(n) Related Information

For more information about this AD, contact Blake Higuchi, Aerospace Engineer, Systems and Equipment Branch, ANM-130L, FAA, Los Angeles ACO, 3960 Paramount Boulevard, Lakewood, CA 90712-4137; phone: 562-627-5315; fax: 562-627-5210; email: blake.higuchi@faa.gov.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Honeywell Alert Service Bulletin ADM/ADC/ADAHRS-34-A01, dated November 6, 2012.

(ii) Airbus Alert Operators Transmission (AOT) A34N001-12, including Appendices A and B, dated November 15, 2012, for Airbus Model A318/A319/A320/A321 series airplanes.

(iii) Airbus AOT A34N001-12, including Appendices A and B, dated November 15, 2012, for Airbus Model A330 series airplanes.

(3) For Honeywell service information identified in this AD, contact Honeywell Aerospace, Technical Publications and Distribution, M/S 2101-201, P.O. Box 52170, Phoenix, AZ 85072-2170; telephone 602-365-5535; fax 602-365-5577; Internet http://www.honeywell.com. For Airbus service information identified in this AD for Model A330 series airplanes, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Airbus service information identified in this AD for Model A318, A319, A320, and A321 series airplanes, contact Airbus, Airworthiness Office—EAS, 1 Rond Point Maurice Bellonte, 31707 Blagnac Cedex, France; telephone +33 5 61 93 36 96; fax +33 5 61 93 44 51; email account.airworth-eas@airbus.com; Internet http://www.airbus.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 21, 2012.
Ali Bahrami,
Manager, Transport Airplane Directorate, Aircraft Certification Service.

[FR Doc. 2012-31587 Filed 1-8-13; 8:45 am]

BILLING CODE 4910-13-P